DEPARTMENT OF LABOR

Mine Safety and Health Administration

30 CFR Parts 56, 57, and 66

RIN 1219-AB41

Alcohol- and Drug-Free Mines: Policy, Prohibitions, Testing, Training, and Assistance

AGENCY: Mine Safety and Health Administration (MSHA), Labor.

ACTION: Proposed rule; notice of public hearing; extension of comment period.

SUMMARY: The Mine Safety and Health Administration (MSHA) will hold a public hearing on its proposed rule to amend the existing metal and nonmetal standards for the possession and use of intoxicating beverages and narcotics and make the new standard applicable to all mines. The proposed rule would also require those who violate the prohibitions to be removed from the performance of safety-sensitive job duties until they successfully complete the recommended treatment and their alcohol- and drug-free status is confirmed by a return-to-duty test.

DATES: All comments must be received by midnight Eastern Daylight Savings Time on October 29, 2008.

MSHA will hold a public hearing on October 14, 2008. The SUPPLEMENTARY INFORMATION section of this notice includes details of the hearing.

ADDRESSES: Comments must be clearly identified with “RIN 1219-AB41” and may be sent by any of the following methods:

(1)Federal e-Rulemaking Portal: http://www.regulations.gov. Follow the instructions for submitting comments.

(2) Electronic mail: zzMSHA-comments@dol.gov. Include “RIN 1219-AB41” in the subject line of the message.

(3) Facsimile: 202-693-9441. Include “RIN 1219-AB41” in the subject line of the message.

(4) Regular Mail: MSHA, Office of Standards, Regulations, and Variances, 1100 Wilson Boulevard, Room 2350, Arlington, Virginia 22209-3939.

(5) Hand Delivery or Courier: MSHA, Office of Standards, Regulations, and Variances, 1100 Wilson Boulevard, Room 2350, Arlington, Virginia. Sign in at the receptionist's desk on the 21st floor.

Comments can be accessed electronically at http://www.msha.gov under the Rules and Regs link. MSHA will post all comments on the Internet without change, including any personal information provided.

Comments may also be reviewed at the Office of Standards, Regulations, and Variances, 1100 Wilson Boulevard, Room 2350, Arlington, Virginia. Sign in at the receptionist's desk on the 21st floor.

FOR FURTHER INFORMATION CONTACT: Patricia W. Silvey, patricia.silvey@dol.gov (E-mail), 202-693-9440 (Voice).

SUPPLEMENTARY INFORMATION:

I. Background

On September 8, 2008 (73 FR 52136), MSHA published a proposed rule in the Federal Register that would amend the existing metal and nonmetal standards concerning the use of intoxicating beverages and narcotics and would make the new standard applicable to all mines. The proposed rule would designate the substances that cannot be possessed on mine property or used while performing safety-sensitive job duties, except when used according to a valid prescription. Mine operators would be required to establish an alcohol- and drug-free mine program, which includes a written policy, employee education, supervisory training, alcohol- and drug-testing for miners that perform safety-sensitive job duties and their supervisors, and referrals for assistance for miners and supervisors who violate the policy. The proposed rule would also require those who violate the prohibitions to be removed from the performance of safety-sensitive job duties until they successfully complete the recommended treatment and their alcohol- and drug-free status is confirmed by a return-to-duty test.

II. Public Hearing

MSHA will hold a public hearing on the proposed rule. The public hearing will begin at 9 a.m. Eastern Daylight Savings Time (EDST). The public hearing will be held via Web cast at three locations. The hearing will end at 5 p.m. EDST, or after the last speaker speaks. The hearing will be held on the following date at the locations and times indicated:

Date | Location | Contact information
October 14, 2008 | Via Webcast: 9 a.m. Eastern Daylight Savings Time | Office of Standards, Regulations and Variances 202-693-9440.
| Cisco Washington DC, 1300 Pennsylvania Avenue, NW., Suite 250, Washington, DC 20004, POC: Mic Keith 202-354-2904 (main bldg phone)
October 14, 2008 | Via Webcast: 9 a.m. Eastern Daylight Savings Time | Office of Standards, Regulations and Variances 202-693-9440.
| Cisco Pittsburgh, 323 North Shore Drive, Pittsburgh, PA 15212, POC: Tom Schweizer, 412-237-6200 (main bldg phone)
October 14, 2008 | Via Webcast: 7 a.m. Mountain Daylight Savings Time | Office of Standards, Regulations and Variances 202-693-9440.
| Cisco Englewood (Denver), 9155 East Nichols Avenue, Suite 400, Englewood, Colorado 80112, 720-875-2900 (main bldg phone), POC: Shannon Gonzales

Persons may participate via audio only at the following locations. At these locations persons will not be able to make oral presentations.

Date | Location | Contact information
October 14, 2008 | Via Audio: 9 a.m. Eastern Daylight Savings Time | Office of Standards, Regulations and Variances 202-693-9440.
| The National Mine Health and Safety Academy, 1301 Airport Road, Beaver, WV 25813
October 14, 2008 | Via Audio: 8 a.m. Central Daylight Savings Time | Office of Standards, Regulations and Variances 202-693-9440.
| Coal Mine Safety and Health, Coal District 11 Office, 135 Gemini Circle, Suite 213, Birmingham, AL 35209

Persons will need an ID to enter all locations and may be subject to a security check.

The hearing will begin with an opening statement from MSHA, followed by an opportunity for members of the public to make oral presentations. Requests to speak at the hearing should be made at least 5 days prior to the hearing date. Requests to speak may be made by telephone (202-693-9440), facsimile (202-693-9441), electronic mail zzMSHA-comments@dol.gov or mail (MSHA, Office of Standards, Regulations, and Variances, 1100 Wilson Boulevard, Room 2350, Arlington, Virginia 22209-3939). Because members of the public will be able to make oral presentations via videoconference at several locations, for scheduling purposes, MSHA encourages all parties wishing to speak to notify the Agency in advance.

Any unallocated time at the end of the hearing will be made available to persons making same-day requests to speak. Same-day requestors will speak in the order that they sign in at the hearing. At the discretion of the presiding official, the time allocated to each speaker for their presentation may be limited. Speakers and other attendees may also present information to the MSHA panel for inclusion in the rulemaking record.

The hearing will be conducted in an informal manner. Formal rules of evidence and cross examination will not apply. The hearing panel may ask questions of speakers. Speakers may ask questions of the hearing panel. MSHA will make a transcript of the hearing, post it on MSHA's Web site http://www.msha.gov, and include it in the rulemaking record. A link to the complete webcast will be placed on MSHA's Web site several days after the hearing.

MSHA will accept post-hearing written comments and data for the record from any interested party, including those not presenting oral statements, by midnight Eastern Daylight Savings Time on October 29, 2008.

Dated: September 22, 2008.
Richard E. Stickler,
Acting Assistant Secretary for Mine Safety and Health.

[FR Doc. E8-22679 Filed 9-23-08; 4:15 pm]

BILLING CODE 4510-43-P